DEPARTMENT OF TRANSPORTATION

Federal Aviation Administration

Aircraft Authentication Status

AGENCY: Federal Aviation Administration (FAA), DOT.

ACTION: Notice.

SUMMARY: The Federal Aviation Administration (FAA) in concert with the Transportation Security Administration (TSA) will revitalize and refocus our airspace monitoring capabilities to ensure that each aircraft operating within the National Airspace System (NAS) has met all statutory, regulatory and certification requirements.

DATES: Effective Date: February 1, 2006.

FOR FURTHER INFORMATION CONTACT: Douglas Gould, Manager, Strategic Operations Security (AJR-22) Federal Aviation Administration, 800 Independence Ave., SW., Washington, DC 20591. Telephone (202) 267-7683.

SUPPLEMENTARY INFORMATION: 14 CFR part 47 of the Federal Aviation Regulations defines the requirements and outlines the circumstances necessary for aircraft registration. The FAA and TSA believe that it is in the interests of national security and aviation safety to ensure that only properly registered aircraft operate within the National Airspace System (NAS).

On June 23, 2003, the Federal Aviation (FAA) published a notice in the Federal Register (FR Doc. 03-15673) stating that the FAA's Aircraft Registration System would be augmented to reflect the observed status of an aircraft's certificate of registration. As of June 20, 2003 those aircraft records containing information that would render a certificate of registration ineffective, if true, were changed to reflect a status of “In Question.”

On May 17, 2004 the Federal Aviation Administration issued a press release emphasizing the need for aircraft owners to update their aircraft registration in order that both the FAA and aircraft manufacturers may be able to notify owners of safety and maintenance-related information.

The FAA has provided numerous other notices requesting aircraft owners register their aircraft and to provide updated address information, mainly in an effort to update the aircraft owner database and to assist local law enforcement agencies and FAA Flight Services Stations in the event of a downed or overdue aircraft. This current notice represents the latest action the FAA is taking to ensure that only properly registered aircraft operate within the NAS.

On the effective date stated herein, operators of identified aircraft with questionable registrations and or no TSA required security measures/waivers will be: (1) Notified of the deficiency, (2) a pilot deviation will be filed on the operator, (3) operator may be denied access to the NAS. In the event the operator is not the owner, the operator and owner will be notified of the deficiency and both will be subject to any action deemed warranted by the agency in accordance with local, state and federal regulations.

The U.S. Civil Aviation Registry provides means to search and update aircraft owner information.

Issued in Washington, DC on December 1, 2005.
Douglas Gould,
Manager, Strategic Operations Security.

[FR Doc. 05-23852 Filed 12-8-05; 8:45 am]

BILLING CODE 4910-13-M